DEPARTMENT OF JUSTICE

[OMB 1140-0024]

Agency Information Collection Activities; Proposed eCollection eComments Requested; Revision of a Previously Approved Collection; Demand 2 Program: Report of Firearms Transactions—ATF Form 5300.5

AGENCY: Bureau of Alcohol, Tobacco, Firearms and Explosives, Department of Justice.

ACTION: 60-Day notice.

SUMMARY: The Department of Justice (DOJ), The Bureau of Alcohol, Tobacco, Firearms and Explosives (ATF), will be submitting the following information collection request to the Office of Management and Budget (OMB) for review and approval in accordance with the Paperwork Reduction Act of 1995.

DATES: Comments are encouraged and will be accepted for 60 days until November 15, 2024.

FOR FURTHER INFORMATION CONTACT: If you have additional comments especially on the estimated public burden or associated response time, suggestions, or need a copy of the proposed information collection instrument with instructions or additional information, contact: Matthew S. Grim, National Tracing Center Division (NTCD)/Tracing Operations Records Management Branch (TORM), either by mail at 244 Needy Rd., Martinsburg, WV 25405, by email at Matthew.grim@atf.gov, or telephone at 304-260-3683.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The Demand 2 Program requires Type 01 and Type 02 Federal Firearm Licensees (FFLs) with 25 or more traces with a time to crime of three years or less in a calendar year, to submit an annual report followed by quarterly reports of used firearms acquired by the FFL. Due to the growing number of Type 07 (Manufacturer of Firearms) FFLs meeting Demand 2 criteria through dealing firearms—with many showing little to no manufacturing activity—and the potential that some FFLs may use a Type 08 (Importer of Firearms) license to deal in firearms and avoid the reporting requirement if Type 08 is not subjected to Demand 2, ATF is including Type 07 and Type 08 licensees within the Demand 2 Program. Information collection OMB # 1140-0024 is being revised to now include Type 07 and 08 FFLs as a population that is subject to the reporting requirements of the Demand 2 program. The Demand 2 program is an important tool to assist in identifying and investigating the diversion of firearms from lawful commerce to criminal use. Information from the Demand 2 program helps identify purchasing patterns involved in trafficking schemes and other forms of criminal diversion, and enhances the ability of law enforcement to determine the source of firearms used in violent crimes.

Overview of This Information Collection:

1. Type of Information Collection: Revision of a previously approved collection.

2. The Title of the Form/Collection: Demand 2 Program: Report of Firearms Transactions.

3. The agency form number, if any, and the applicable component of the Department sponsoring the collection: Form number: ATF Form 5300.5.

Component: Bureau of Alcohol, Tobacco, Firearms and Explosives, U.S. Department of Justice.

4. Affected public who will be asked or required to respond, as well as the obligation to respond: Affected Public: Private Sector-for or not for profit institutions.

The obligation to respond is mandatory under authority 18 U.S.C. 923(g)(5), in the form and manner specified in 27 CFR 478.126(a).

5. An estimate of the total number of respondents and the amount of time estimated for an average respondent to respond: An estimated 1,453 respondents will respond to this collection 4 times annually, and it will take each respondent approximately 30 minutes to complete their responses.

6. An estimate of the total annual burden (in hours) associated with the collection: The estimated annual public burden associated with this collection is 2,906 total hours which is equal to 1,453 (total respondents) × 4 (# of response per respondent) × 0.5 (30 minutes).

7. An estimate of the total annual cost burden associated with the collection, if applicable: $424.

Total Burden Hours
Activity | Number of respondents | Frequency | Total annual responses | Time per response (minutes) | Total annual burden (hours)
ATF Form 5300.5 | 1,453 | 4 | 5,812 | 30 |
Unduplicated Totals | 1,453 | 4 | 5,812 | 30 |

If additional information is required contact: Darwin Arceo, Department Clearance Officer, United States Department of Justice, Justice Management Division, Policy and Planning Staff, Two Constitution Square, 145 N Street NE, 4W-218, Washington, DC.

Dated: September 11, 2024.
Darwin Arceo,
Department Clearance Officer for PRA, U.S. Department of Justice.

[FR Doc. 2024-20976 Filed 9-13-24; 8:45 am]

BILLING CODE 4410-FY-P